DEPARTMENT OF AGRICULTURE

Submission for OMB Review; Comment Request

September 19, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Rural Utilities Service

Title: RUS Form 444, “Wholesale Power Contracts.”

OMB Control Number: 0572-0089.

Summary of Collection: The Rural Electrification Act of 1936 (RE Act) as amended (7 U.S.C. 901 et seq., authorizes the Rural Utilities Service (RUS) to make and guarantee loans that will enable rural consumers to obtain electric power. Rural consumers formed non-profit electric distribution cooperatives. Subsequently, groups of these distribution cooperatives banded together to form Generation and Transmission cooperatives (G&T's) that generate or purchase power and transmit the power to the distribution systems. All RUS and G&T borrowers will enter into a Wholesale Power Contract with their distribution members by using RUS Form 444.

Need and Use of the Information: RUS will collect information to improve the credit quality and credit worthiness of loans and loan guarantees to G&T borrowers to fulfill the purposes of the RE Act.

Description of Respondents: Not-for-profit institutions; Business or other for-profit.

Number of Respondents: 110.

Frequency of Responses: Reporting: Quarterly.

Total Burden Hours: 660.

Forest Service

Title: Recreation Fee Permit and Envelope Registration Card.

OMB Control Number: 0596-0019.

Summary of Collection: The Organic Administration Act (30 stat. 11), the Wilderness Act (78 stat. 890), the Wild and Scenic River Act (82 stat. 906) and Executive Order 11664, all authorize the Forest Service (FS) to manage the forests to benefit both land and people. Every year million of people visit the National Forest System. As FS heads into the next millennium, their challenge is to meet a soaring demand for higher quality recreation experiences while safeguarding the health of the land. FS will care for the land and serve people is to determine where people are going when they visit the national forest and give them information, which provides for a safe and enjoyable visit and at the same time protects the resource. The Visitors Permit and Visitor Registration Card are tools that will help FS meet their objective. At the majority of locations visited, a permit for use is required. The FS uses the Visitor's Permit (Form 2300-30) and the Visitor Registration Card (Form 2300-32) to permit use in these areas.

Need and Use of the Information: FS will collect the visitor's name, address, area to be visited, date of visit, length of stay, method of travel, number of people, and number of pack and saddle stock. The permit and registration card allows managers to identify areas, which are being heavily used and is also used to locate forest visitors if they do not return from their trip as planned. If the information were not collected from visitors it could cause overuse and site deterioration in some environmentally sensitive areas.

Description of Respondents: Individuals or households; Business or other for-profit; Not-for profit institutions.

Number of Respondents: 320,000.

Frequency of Responses: Reporting: Other (per visit).

Total Burden Hours: 26,000.

Agricultural Marketing Service

Title: Cranberries grown in the states of MA, RI, CT, NJ, WI, MN, MI, OR, WA, and Long Island in the State of NY, Marketing Order No. 929.

OMB Control Number: 0581-0103.

Summary of Collection: Marketing Order No. 929 (7 CFR Part 929) regulates the handling of cranberries grown in certain states and emanates from enabling legislation (the Agricultural Marketing Agreement Act of 1937, Secs. 1-19, 48 Stat. 31, as amended; 7 U.S.C. 601-674). The Act was designed to permit regulation of certain agricultural commodities for the purpose of providing orderly marketing conditions in interstate commerce and improving returns to growers. The objective of the marketing agreement and order is to correlate the supply of cranberries available for sale in the various trade channels with the demand in those outlets.

Need and Use of the Information: The Cranberry Marketing Committee locally administers the order and represents growers. The committee and its staff are responsible for keeping information on individual handlers inventories and receipt confidential. Information gathered by the committee would only be reported in the aggregate, along with other pertinent cranberry data. AMS will collect information using various forms that ensure compliance and help monitor grower's allotments. If information were not collected, it would eliminate data needed to keep the cranberry industry and the Secretary abreast of changes at the State and local level.

Description of Respondents: Business or other for profit; Farms.

Number of Respondents: 1,285.

Frequency of Responses: Recordkeeping; Reporting: Quarterly and Annually.

Total Burden Hours: 1,750.

Farm Service Agency

Title: Regulations for Cooperative Marketing Associations, 7 CFR Part 1425.

OMB Control Number: 0560-0040.

Summary of Collection: The Secretary of Agriculture and Commodity Credit Corporation (CCC) have authority to make Price Support available to Cooperatives on behalf of their members through both commodity statutes and the Commodity Credit Corporation Charter Act. Various forms are used to collect information along with the cooperative eligibility requirements that form the basis for information collections. These requirements are needed to insure price support programs' integrity. Cooperative Marketing Association (CMA) is an entity through which benefits of commodity loan and loan deficiency payment (LDP) programs flow to eligible producers. The responsibilities of the CCC are to stabilize, support and protect farm income and prices to aid in the orderly marketing of farm commodities. Commodities authorized for price support through approved Cooperative Marketing Associations (CMA's) include barley, corn, cotton, crambe, oats, oilseeds, rice, sorghum and wheat.

Need and Use of the Information: The information requested is needed to administer the CCC's Cooperative Marketing Association Program. CCC approves CMA's participation in the commodity loan and LDP program, and monitors them based on eligibility requirements. This is to ensure that commodity loan and LDP proceeds go only to eligible producers. The consequence of not obtaining this information could lead to ineligible producers sharing the benefits of commodity loans and LDP's with eligible producers. In this environment, pseudo and bogus cooperatives could take advantage of program benefits such as interim financing, marketing gains, and forfeiture provisions.

Description of Respondents: Individuals or households; Farms; Business or other for profit.

Number of Respondents: 380.

Frequency of Responses: Recordkeeping; Reporting: On Occasion, Annually; Other (as requested).

Total Burden Hours: 25,946.

Forest Service

Title: Application for Prospecting Permit.

OMB Control Number: 0596-0089.

Summary of Collection: The Application for Prospecting Permit, Form FS-2800-14, was developed by Region 1, Forest Service (FS) to obtain better information from applicants requesting permits to conduct geophysical activities on National Forest System lands. These activities are authorized according to 36 CFR Subpart E 228.100 and 228.101 for operations on a lease, 36 CFR 251 Subpart B for operations off a lease, and 36 CFR 251.15 for operations on reserved mineral rights. Geophysical operations are conducted to better understand the earth's geology and mineral resources. Use of the form will ensure that a complete, concise, site-specific, description of all proposed geophysical activity be obtained. It will ensure timely and effective review and decision-making in compliance with the National Environmental Policy Act (NEPA; 42 U.S.C. 4521-4347).

Need and Use of the Information: FS collects the name, address, and company project name of the applicant and similar information about the geophysical contractor. The information is used by FS to ensure a thorough, accurate, and timely review of the proposed geophysical activity. If complete and accurate information is not collected the environmental analysis and related NEPA documents may be incomplete; permit issuance may be delayed; and, recordkeeping may be incomplete.

Description of Respondents: Business or other for-profit; Non-for-profit institutions.

Number of Respondents: 25.

Frequency of Responses: Reporting: On occasion.

Total Burden Hours: 6.

Food and Nutrition Service

Title: 7 CFR Part 220 School Breakfast Program.

OMB Control Number: 0584-0012.

Summary of Collection: Section 4 of the Child Nutrition Act (CNA) of 1966, as amended, authorizes the School Breakfast Program (SBP). The Food and Nutrition Service (FNS) administers the School Breakfast Program on behalf of the Secretary of Agriculture so that needy children may receive their breakfasts free or at a reduced price. The requirements for the interim rule entitled, Identification of Blended Beef, Pork, Poultry or Seafood Products are found in section 210.10(h) of the National School Lunch Program regulations. The third party disclosure requires school food authorities to inform children and their parents of the use of products or dishes containing more than 30 parts fully hydrated vegetable protein products to less than 70 parts beef, pork, poultry or seafood in food served under the SBP.

Need and Use of the Information: School food authorities provide information to State agencies. The State agencies reprot to FNS. FNS uses the information submitted to determine the amount of funds to be reimbursed, evaluate and adjust program operations, and to develop projections for future program operations.

Description of Respondents: State, Local, or Tribal Government, Individuals or household, Business or other for-profit, Not-for-profit institutions, Federal Government.

Number of Respondents: 82,748.

Frequency of Responses: Recordkeeping; Reporting: On occasion; Quarterly; Monthly; Semi-annually; Annually; Other.

Total Burden Hours: 4,895,796.

Food and Nutrition Service

Title: National School Lunch Program.

OMB Control Number: 0584-0006.

Summary of Collection: Section 9 of the National School Lunch Act (NSLA) gives the Secretary authority to prescribe the minimum nutritional requirements for lunches served by school participating in the school lunch program. The requirements for the interim rule entitled, Identification of Blended Beef, Pork, Poultry or Seafood Products are found in section 210.10 (h) of the National School Lunch Program regulations. The third party disclosure requires school food authorities to inform children and their parents of the use of products or dishes containing more than 30 parts fully hydrated vegetable protein products to less than 70 parts beef, pork, poultry or seafood in food served under the NSLP. The Food and Nutrition Service will collect information using forms FNS-66, 640, and 67.

Need and Use of the Information: The information will be collected to ensure that the alternative implemented by the States and the school food authorities adequately meets program requirements and goals. The plan will also ensure a comprehensive review and will be available for monitoring purposes.

Description of Respondents: State, Local, or Tribal Government, Individuals or household, Business or other for-profit, Not-for-profit institutions, Federal Govenrment.

Number of Respondents: 118,051.

Frequency of Responses: Recordkeeping; Reporting: On occasion; Quarterly; Monthly; Annually; Semi-annually; Other.

Total Burden Hours: 9,462,622.

Animal and Plant Health Inspection Service

Title: National Agricultural Pest Information System.

OMB Control Number: 0579-0010.

Summary of Collection: The United States Department of Agriculture is responsible for preventing plant diseases or insect pests from entering the United States, preventing the spread of pests not widely distributed in the United States, and eradicating those imported pests when eradication is feasible. The Plant Quarantine Act and the Federal Plant Pest Act authorizes the Department to carry out this mission. The Animal and Plant Health Inspection Service (APHIS) has joined forces with the States to create a program called the Cooperative Agricultural Pest Survey. The program allows the States and the Plant Protection and Quarantine (PPQ) Division to conduct surveys to detect and measure the presence of imported plant pests and to input survey data into a national computer-based system (called the National Agricultural Plant Information System). APHIS will collect information using PPQ Form 391 and a survey.

Need and Use of the Information: APHIS will collect information to predict potential pest situations, to promptly detect and respond to the occurrence of new pests, and to record the location of those pest incursions that could directly hinder the export of U.S. farm commodities. If the information were not collected, it would seriously affect APHIS ability to timely assist farmers, State personnel, and others involved in agriculture to plan pest control measures, detect new outbreaks, and to determine the threat posed by migratory pests.

Description of Respondents: Government.

Number of Respondents: 150.

Frequency of Responses: Reporting; On occasion.

Total Burden Hours: 1,445.

Economic Research Service

Title: Study of Program Access and Declining Food Stamp Participation.

OMB Control Number: 0536-NEW.

Summary of Collection: The Economic Research Service (ERS) of the Department of Agriculture (USDA) has the responsibility to provide social and economic intelligence on consumer, food marketing, and rural issues, including: Domestic food assistance programs; low-income assistance programs; food security status of the poor; food consumption determinants and trends; consumer demand for food quality, safety, and nutrition; food market competition and coordination; and food safety regulations. The Food Stamp Program (FSP) is the cornerstone of the Nation's nutrition safety net for low-income Americans. The program's intent is to eliminate hunger and enable eligible low-income persons to obtain a more nutritionally adequate diet by providing food stamp coupons (or other forms of payment) redeemable at many retail food stores. USDA is concerned about the declines in Food Stamp Program participation that have occurred since 1994, and whether or not the program is reaching all those in need. In an effort to better understand the factors affecting Food Stamp Program participants, the ERS will launch a study. The evaluation is being performed pursuant to Public Law 95-73, which authorizes USDA to undertake research.

Need and Use of the Information: ERS will collect information to describe the policies and practices in local food stamp offices, particularly those instituted since welfare reform, that may affect accessibility to the FSP; to examine how local policies and practices affect households' decisions to apply for food stamps and their decisions to continue to receive food stamps; and to examine the reason eligible households do not participate in the FSP.

Description of Respondents: State, Local, or Tribal Government.

Number of Respondents: 37,278.

Frequency of Responses: Reporting: Other (one time).

Total Burden Hours: 5,110.5.

Farm Service Agency

Title: Certified Mediation Program.

OMB Control Number: 0560-0165.

Summary of Collection: The Farm Service Agency (FSA) is amending its Agricultural Loan Mediation (AMP) regulations to implement the requirements of the Federal Crop Insurance Reform and Department of Agriculture Reorganization Act of 1994 (the 1994 Act). P.L. 103-354, October 13, 1994, amended Section 501 of the Agricultural Credit Act of 1987 (7 U.S.C. 5101 by striking “an agricultural loan mediation program” and inserting “a mediation program”. The regulation provides a mechanism to States to apply for and obtain matching funds grants from USDA. The grant funds help states supplement administrative operating funds needed to administer their agricultural mediation programs. FSA will collect information by mail, phone, fax, and in person.

Need and Use of the Information: FSA will collect information to ensure matching grant funds are used only to pay for eligible costs necessary for the operation and administration of the State mediation programs, consistent with the statutory purposes of the program. If information were not collected, this would result in improper administration and appropriation of Federal grant funds.

Description of Respondents: State, Local or Tribal Government.

Number of Respondents: 25.

Frequency of Responses: Recordkeeping; Reporting: Annually.

Total Burden Hours: 775.

Nancy B. Sternberg,
Departmental Clearance Officer.

[FR Doc. 00-24563 Filed 9-22-00; 8:45 am]

BILLING CODE 3410-01-M